OFFICE OF PERSONNEL MANAGEMENT

5 CFR Part 532

RIN 3206-AM78

Prevailing Rate Systems; North American Industry Classification System Based Federal Wage System Wage Surveys

AGENCY: U. S. Office of Personnel Management.

ACTION: Proposed rule with request for comments.

SUMMARY: The U.S. Office of Personnel Management is issuing a proposed rule that would update the 2007 North American Industry Classification System (NAICS) codes currently used in Federal Wage System wage survey industry regulations with the 2012 NAICS revisions published by the Office of Management and Budget.

DATES: We must receive comments on or before April 25, 2013.

ADDRESSES: You may submit comments, identified by “RIN 3206-AM78,” using either of the following methods:

Federal eRulemaking Portal: http://www.regulations.gov. Follow the instructions for submitting comments.

Mail: Jerome D. Mikowicz, Deputy Associate Director for Pay and Leave, Employee Services, U.S. Office of Personnel Management, Room 7H31, 1900 E Street NW., Washington, DC 20415-8200, or email pay-leave-policy@opm.gov.

FOR FURTHER INFORMATION CONTACT: Madeline Gonzalez, by telephone at (202) 606-2838, or by email at pay-leave-policy@opm.gov.

SUPPLEMENTARY INFORMATION: On August 7, 2008, the U.S. Office of Personnel Management (OPM) issued a final rule (73 FR 45853) to update the 2002 North American Industry Classification System (NAICS) codes used in Federal Wage System (FWS) wage survey industry regulations with the 2007 NAICS revisions published by the Office of Management and Budget (OMB). OPM's current regulations use 2007 NAICS codes. OMB has now published the NAICS revisions for 2012, which result in certain changes in industry coverage for FWS wage surveys.

The following sections of title 5, Code of Federal Regulations, list the industries included in the FWS wage surveys by 2007 NAICS codes:

Section 532.213—Industries included in regular appropriated fund wage surveys.

Section 532.221—Industries included in regular nonappropriated fund surveys.

Section 532.267—Special wage schedules for aircraft, electronic, and optical instrument overhaul and repair positions in Puerto Rico.

Section 532.285—Special wage schedules for supervisors of negotiated rate Bureau of Reclamation employees.

Section 532.313—Private sector industries.

OPM has reviewed these regulations in light of OMB's NAICS revisions for 2012 and is proposing the following changes:

• Delete NAICS codes 44311 (Appliance, television, and other electronic stores), 7221 (Full-service restaurants), and 7222 (Limited-service eating places) from the list of required NAICS codes in 5 CFR 532.221 and add NAICS codes 443 (Electronics and appliance stores) and 7225 (Restaurants and other eating places);

• Add NAICS code 333316 (Photographic and photocopying equipment manufacturing) to the list of required NAICS codes in 5 CFR 532.267 and three of the specialized industries (Electronics, Guided missiles, and Sighting and fire control equipment) in 5 CFR 532.313;

• Delete NAICS codes 332212 (Hand and edge tool manufacturing), 332995 (Other ordnance and accessories manufacturing), 336312 (Gasoline engine and engine parts manufacturing), 336322 (Other motor vehicle electrical and electronic equipment manufacturing), and 336399 (All other motor vehicle parts manufacturing) from the list of required NAICS codes in the Artillery and combat vehicle specialized industry in 5 CFR 532.313 and add NAICS codes 332216 (Saw blade and hand tool manufacturing), 332994 (Small arms, ordnance, and ordnance accessories manufacturing), 33631 (Motor vehicle gasoline engine and engine parts manufacturing), 33632 (Motor vehicle electrical and electronic equipment manufacturing), and 33639 (Other motor vehicle parts manufacturing);

• Delete NAICS codes 334414 (Electronic capacitor manufacturing) and 334415 (Electronic resistor manufacturing) from the list of required NAICS codes in the Electronics specialized industry in 5 CFR 532.313;

• Revise the title of NAICS code 334613 (Magnetic and optical recording media manufacturing) to read “Blank magnetic and optical recording media manufacturing” in the list of required NAICS codes in 5 CFR 532.267 and to three of the specialized industries (Electronics, Guided missiles, and Sighting and fire control equipment) in 5 CFR 532.313; and

• Revise the title of NAICS code 4921 (Couriers) to read “Couriers and express delivery services” in the list of required NAICS codes in 5 CFR 532.267 and in the Aircraft specialized industry in 5 CFR 532.313.

None of the other sections are affected by 2012 changes in NAICS codes. OPM is also proposing to replace the year “2007” with “2012” in the table titles of all applicable sections.

The Federal Prevailing Rate Advisory Committee, the national labor-management committee responsible for advising OPM on matters concerning the pay of FWS employees, recommended by consensus that we adopt these changes.

Regulatory Flexibility Act

I certify that these regulations would not have a significant economic impact on a substantial number of small entities because they would affect only Federal agencies and employees.

Executive Order 13563 and Executive Order 12866

This proposed rule has been reviewed by the Office of Management and Budget in accordance with Executive Order 13563 and Executive Order 12866.

List of Subjects in 5 CFR Part 532

Administrative practice and procedure, Freedom of information, Government employees, Reporting and recordkeeping requirements, Wages.

John Berry,
Director, U.S. Office of Personnel Management.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

§ 532.213 [Amended]

2. In § 532.213, amend the table headings in both columns by removing “2007” and adding “2012.”

§ 532.221 [Amended]

3. In § 532.221, amend the table as follows:

a. Revise the year “2007” to “2012” in the table headings in both columns;

b. Remove NAICS codes “44311,” “7221,” and “7222” in the first column and “Appliance, television, and other electronic stores,” “Full-service restaurants,” and “Limited-service eating places” in the second column; and

c. Add NAICS codes “443” and “7225” in the first column in numerical order and “Electronics and appliance stores” and “Restaurants and other eating places” in the second column.

§ 532.267 [Amended]

4. In § 532.267(c)(1), amend the table as follows:

a. Revise the year “2007” to “2012” in the table headings in both columns;

b. Add NAICS code “333316” in the first column in numerical order and “Photographic and photocopying equipment manufacturing” in the second column;

c. Revise the title of NAICS code 334613 from “Magnetic and optical recording media manufacturing” to “Blank magnetic and optical recording media manufacturing” in the second column; and

d. Revise the title of NAICS code 4921 from “Couriers” to “Couriers and express delivery services” in the second column.

§ 532.285 [Amended]

5. In § 532.285(c)(1), amend the table headings in both columns by replacing the year “2007” with “2012.”

§ 532.313 [Amended]

6. In § 532.313(a), amend the table as follows:

a. Revise the year “2007” to “2012” in the table headings in both columns;

b. Add NAICS code “333316” in the first column in numerical order and “Photographic and photocopying equipment manufacturing” in the second column to the list of required NAICS codes for the Electronics Specialized Industry, Guided Missiles Specialized Industry, and Sighting and Fire Control Equipment Specialized Industry; and

c. Remove NAICS codes “332212,” “332995,” “336312,” “336322,” and “336399” in the first column and “Hand and edge tool manufacturing,” “Other ordnance and accessories manufacturing,” “Gasoline engine and engine parts manufacturing,” “Other motor vehicle electrical and electronic equipment manufacturing,” and “All other motor vehicle parts manufacturing” in the second column from the list of required NAICS codes for the Artillery and Combat Vehicle Specialized Industry.

d. Add NAICS codes “332216,” “332994,” “33631,” “33632,” and “33639” in the first column in numerical order and “Saw blade and hand tool manufacturing,” “Small arms, ordnance, and ordnance accessories manufacturing,” “Motor vehicle gasoline engine and engine parts manufacturing,” “Motor vehicle electrical and electronic equipment manufacturing,” and “Other motor vehicle parts manufacturing” in the second column to the list of required NAICS codes for the for the Artillery and Combat Vehicle Specialized Industry;

[FR Doc. 2013-06783 Filed 3-25-13; 8:45 am]

BILLING CODE 6325-39-P